DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 26, 2017. Address written comments to Statutory Import Programs Staff, Room 3720, U.S. Department of Commerce, Washington, DC 20230. Applications may be examined between 8:30 a.m. and 5:00 p.m. at the U.S. Department of Commerce in Room 3720.

Docket Number: 17-014. Applicant: Fermi Research Alliance, 2000 East Wilson Street, Batavia, IL 60510. Instrument: ICARUS T600 Detector. Manufacturer: The European Organization for Nuclear Research, Switzerland. Intended Use: The instrument will be used to study the rate at which muon neutrinos, a type of elementary particle, change flavor to electron neutrinos as they travel the distance between three LArTPC detectors. This is the only instrument that meets the requirements for position and time resolution of particle trajectories. Justification for Duty-Free Entry: There are no instruments of the same general category manufactured in the United States. Application accepted by Commissioner of Customs: July 12, 2017.

Docket Number: 17-015. Applicant: New Mexico Institute of Mining and Technology, 801 Leroy Place, Socorro, NM 87801. Instrument: Unit Telescope Enclosure #1 (UTE1). Manufacturer: European Industrial Engineering (EIE) Group, Italy. Intended Use: The instrument will be used to study star and planet formation, active galactic nuclei and stellar accretion and mass loss. Unique features of the instrument include access to all astronomical objects above 30 degrees in elevation, with an inner axis rotation angle between +40 degrees and −50 degrees, as well as thermal stability and protection from shock load and vibration. Justification for Duty-Free Entry: There are no instruments of the same general category manufactured in the United States. Application accepted by Commissioner of Customs: July 24, 2017.

Docket Number: 17-016. Applicant: Yale University, 333 Cedar Street, SHM B323, New Haven, CT 06520. Instrument: Mosquito crystal robot. Manufacturer: TTP Labtech, United Kingdom. Intended Use: The instrument will be used to obtain crystals of the biological macromolecule with and without its binding partner(s). Unique features of the instrument include disposable tips, which are essential to avoid cross contamination. Justification for Duty-Free Entry: There are no instruments of the same general category manufactured in the United States. Application accepted by Commissioner of Customs: July 25, 2017.

Docket Number: 17-018. Applicant: Brookhaven National Laboratory, P.O. Box 5000, Upton, NY 11973. Instrument: Solid State Klystron Modulator. Manufacturer: Scandinova Systems AB, Sweden. Intended Use: The instrument will be used to study the magnetization, structure and conductivity of various organic and inorganic specimens such as proteins, ferrite, and superconducting materials. This is the only instrument with specific electrical socket to connect to the klystron, a solenoid magnet with magnetic field contours specific to the Model E37302A. Justification for Duty-Free Entry: There are no instruments of the same general category manufactured in the United States. Application accepted by Commissioner of Customs: August 16, 2017.

Dated: November 20, 2017.
Gregory W. Campbell,
Director, Subsidies Enforcement, Enforcement and Compliance.

[FR Doc. 2017-26067 Filed 12-1-17; 8:45 am]

BILLING CODE 3510-DS-P